ENVIRONMENTAL PROTECTION AGENCY

[FRL-9969-52-OA]

Notice of Meeting of the EPA Children's Health Protection Advisory Committee (CHPAC)

AGENCY: Environmental Protection Agency (EPA).

ACTION: Notice of meeting.

SUMMARY: Pursuant to the provisions of the Federal Advisory Committee Act, notice is hereby given that the next meeting of the Children's Health Protection Advisory Committee (CHPAC) will be held November 29 and 30 at The George Washington University Milken Institute School of Public Health 950 New Hampshire Ave. NW., Washington, DC 20052. The CHPAC advises the Environmental Protection Agency on science, regulations, and other issues relating to children's environmental health.

DATES: November 29 and 30 at The George Washington University Milken Institute School of Public Health in Washington, DC.

ADDRESSES: 950 New Hampshire Ave. NW., Washington, DC 20052.

FOR FURTHER INFORMATION CONTACT: Angela Hackel, Office of Children's Health Protection, USEPA, MC 1107T, 1200 Pennsylvania Avenue NW., Washington, DC 20460, (202) 566-2977 or hackel.angela@epa.gov.

SUPPLEMENTARY INFORMATION: The meetings of the CHPAC are open to the public. An agenda will be posted to epa.gov/children.

Access and Accommodations: For information on access or services for individuals with disabilities, please contact Angela Hackel at 202-5566-2977.

Dated: October 2, 2017.
Angela Hackel,
Designated Federal Official.

[FR Doc. 2017-22498 Filed 10-16-17; 8:45 am]

BILLING CODE 6560-50-P